DEPARTMENT OF HOMELAND SECURITY

U.S. Customs and Border Protection

[Docket No. USCBP-2021-0020]

Commercial Customs Operations Advisory Committee (COAC)

AGENCY: U.S. Customs and Border Protection (CBP), Department of Homeland Security (DHS).

ACTION: Committee management; notice of Federal advisory committee meeting.

SUMMARY: The Commercial Customs Operations Advisory Committee (COAC) will hold its quarterly meeting on Wednesday, June 23, 2021. The meeting will be open to the public via webinar only. There is no on-site, in-person option for this quarterly meeting.

DATES: The COAC will meet on Wednesday, June 23, 2021, from 1:00 p.m. to 5:00 p.m. EDT. Please note that the meeting may close early if the committee has completed its business. Comments must be submitted in writing no later than June 22, 2021.

ADDRESSES: The meeting will be held via webinar. The webinar link and conference number will be provided to all registrants by 5:00 p.m. EDT on June 22, 2021. For information on facilities or services for individuals with disabilities or to request special assistance at the meeting, contact Ms. Florence Constant-Gibson, Office of Trade Relations, U.S. Customs and Border Protection, at (202) 344-1440 as soon as possible.

FOR FURTHER INFORMATION CONTACT: Ms. Florence Constant-Gibson, Office of Trade Relations, U.S. Customs and Border Protection, 1300 Pennsylvania Avenue NW, Room 3.5A, Washington, DC 20229; or Ms. Valarie M. Neuhart, Designated Federal Officer, at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate via webinar, please register online at https://teregistration.cbp.gov/index.asp?w=228 by 2:00 p.m. EDT on June 22, 2021. For members of the public who are pre-registered to attend the webinar and later need to cancel, please do so by 2:00 p.m. EDT on June 21, 2021, utilizing the following link: https://teregistration.cbp.gov/cancel.asp?w=228.

Please feel free to share this information with other interested members of your organization or association.

To facilitate public participation, we are inviting public comment on the issues the committee will consider prior to the formulation of recommendations as listed in the Agenda section below.

Comments must be submitted in writing no later than June 22, 2021, and must be identified by Docket No. USCBP-2021-0020, and may be submitted by one (1) of the following methods:

• Federal eRulemaking Portal: http://www.regulations.gov. Follow the instructions for submitting comments.

• Email: tradeevents@cbp.dhs.gov. Include the docket number in the subject line of the message.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2021-0020) for this action. Comments received will be posted without alteration at http://www.regulations.gov. Please do not submit personal information to this docket.

Docket: For access to the docket or to read background documents or comments, go to http://www.regulations.gov and search for Docket Number USCBP-2021-0020. To submit a comment, click the “Comment Now!” button located on the top-right hand side of the docket page.

There will be multiple public comment periods held during the meeting on June 23, 2021. Speakers are requested to limit their comments to two (2) minutes or less to facilitate greater participation. Please note that the public comment period for speakers may end before the time indicated on the schedule that is posted on the CBP web page, http://www.cbp.gov/trade/stakeholder-engagement/coac.

Agenda

The COAC will hear from the current subcommittees on the topics listed below and then will review, deliberate, provide observations, and formulate recommendations on how to proceed:

1. The Secure Trade Lanes Subcommittee will present the following updates: The Trusted Trader Working Group will provide an update on the progress of the White Paper on the Implementation of CTPAT Trade Compliance Requirements for Forced Labor; the In-Bond Working Group will provide an update on the progress with the technical enhancements being addressed through the Trade Support Network and the review of regulatory recommendations incorporated within the COAC In-Bond Modernization White Paper to create future efficiency and process development; the Export Modernization Working Group will present their White Paper on Export Operations for the 21st Century along with proposed recommendations; and, the Remote and Autonomous Cargo Processing Working Group will provide an update on the development of a draft White Paper identifying the potential impact of Remote and Autonomous Vehicles to CBP Cargo Processing Operations.

2. The Next Generation Facilitation Subcommittee will provide an update on the following working groups and task force activities: First, the Re-Imagined Entry Processes (RIEP) Working Group has begun a series of deep-dive sessions to review the entire entry process and examine when entry data becomes available. The intent of these sessions is to determine the points along the supply-chain where the data is first available in order to enhance the facilitation and security of the entry process and may provide some strategic recommendations in this area. Next, the One U.S. Government Working Group will provide an update on the following key project: The automation of electronic documents that are currently required at time of entry and the Partner Government Agency Disclaim Handbook. Finally, CBP will provide an update on the progress of the E-Commerce and 21st Century Customs Framework Task Forces.

3. The Intelligent Enforcement Subcommittee will provide a status update on the following: The Bond Working Group will report on the continued work with CBP on the Monetary Guidelines of Setting Bond Amounts, the status of the risk-based bonding initiative, and recommendations on the eBond Pilot; the Antidumping/Countervailing Duty (AD/CVD) Working Group will discuss the ongoing challenges associated with the growing number of AD/CVD cases; the Intellectual Property Rights (IPR) Process Modernization Working Group will provide updates on past recommendations to further the modernization of IPR processes; and, the Forced Labor Working Group will provide an update related to the progress of the three subgroups outlined in the Statement of Work: Informed Compliance Fact Sheet Subgroup, Emerging Traceability Subgroup, and Forced Labor Report and Metrics Subgroup.

4. The Rapid Response Subcommittee will provide an update on the progress of its two working groups. First, the USMCA Working Group has identified specific topics for review with the USMCA Center as the anticipated publication of the new regulations approaches. The topics for discussion include export guidance, e-signatures, and the marking rules in part 102 of title 19 of the Code of Federal Regulations (19 CFR part 102). Second, the Broker Exam Modernization Working Group will provide an update on recent exam modernization activities.

Meeting materials will be available by June 21, 2021, at: http://www.cbp.gov/trade/stakeholder-engagement/coac/coac-public-meetings.

Dated: June 3, 2021.
Valarie M. Neuhart,
Deputy Executive Director, Office of Trade Relations.

[FR Doc. 2021-11950 Filed 6-7-21; 8:45 am]

BILLING CODE 9111-14-P